DEPARTMENT OF HOMELAND SECURITY

Coast Guard

[Docket No. USCG-2007-0006]

Commercial Fishing Industry Vessel Safety Advisory Committee

AGENCY: Coast Guard, DHS.

ACTION: Notice of meeting.

SUMMARY: The Commercial Fishing Industry Vessel Safety Advisory Committee (CFIVSAC) will meet in Seattle, WA, to discuss various issues relating to commercial vessel safety in the fishing industry. The meetings are open to the public.

DATES: CFIVSAC will meet on November 13 and 14, 2007, from 8 a.m. to 5 p.m. The meetings may close early if all business is finished. Requests to make oral presentations should reach the Coast Guard on or before October 12, 2007. Written material for distribution at the meeting should reach the Coast Guard on or before November 7, 2007. Requests to have a copy of your material distributed to each member of the committee should reach the Coast Guard on or before October 30, 2007. Send written material with 25 copies and requests to make oral presentations to Lieutenant Commander Kenneth Vazquez, Commandant (CG-543-3), U.S. Coast Guard Headquarters, 2100 Second Street, SW., Washington, DC 20593-0001. This notice is available on the Internet at http://www.regulations.gov.

ADDRESSES: CFIVSAC will meet in the Court Room on the 5th Floor (Room 514), at the Jackson Federal Building, 915 Second Avenue, Seattle, Washington 98174.

FOR FURTHER INFORMATION CONTACT: Lieutenant Commander Kenneth Vazquez, Assistant to the Executive Director, by telephone at 202-372-1247, fax 202-372-1918, e-mail: Kenneth.Vazquez@uscg.mil.

SUPPLEMENTARY INFORMATION: Information about the CFIVSAC up to date meeting information and a listing of the past meeting minutes is available through the following World Wide Web address (i.e., Uniform Resource Locator or URL): http://www.FishSafe.info (“Advisory Committee”) or http://homeport.uscg.mil/mycg/portal/ep/channelView.do?channelId=-18425&channelPage=%2Fep%2Fchannel%2Fdefault.jsp&pageTypeId=13489&BV.

CFIVSAC will meet to discuss various issues relating to commercial vessel safety in the fishing industry. The meetings are open to the public. Notice of the meetings is given under the Federal Advisory Committee Act, 5 U.S.C. App. (Pub. L. 92-463).

Agenda of Meeting

The agenda includes the following:

(1) Approval of last meeting's minutes.

(2) Update on past recommendations.

(3) Status report on the NPRM.

(4) WPI project.

(5) Meeting of communication subcommittee.

(6) Meeting of risk management subcommittee.

(7) Status of Legislative proposals: The House and Senate fishing vessel safety related proposals discussed in their versions of the Coast Guard authorization bills; Pending final bills outcomes.

(8) Discussions and working group sessions by the committees on long term strategies and future plans.

Procedural

The meetings are open to the public. Please note the meetings may close early if all business is finished. At the Chair's discretion, members of the public may make presentations during the meeting. If you would like to make an oral presentation at the meeting, please notify the Executive Director no later than October 12, 2007. Written material for distribution at the meeting should reach the Coast Guard no later than November 7, 2007. If you would like a copy of your material distributed to each member of the committee in advance of the meeting, please submit 25 copies to the Executive Director no later than October 30, 2007.

Information on Services for Individuals With Disabilities

For information on facilities or services for individuals with disabilities or to request special assistance at the meeting, contact the Executive Director as soon as possible but no later than November 5, 2007.

Dated: October 15, 2007.
J.G. Lantz,
Director of Commercial Regulations and Standards, Assistant Commandant for Marine Safety, Security, and Stewardship.

[FR Doc. E7-20660 Filed 10-18-07; 8:45 am]

BILLING CODE 4910-15-P